DEPARTMENT OF AGRICULTURE

Forest Service

Fremont-Winema National Forests, Chemult and Silver Lake Ranger Districts; Oregon; Antelope Grazing Allotments AMP Analysis

AGENCY: Forest Service, USDA.

ACTION: Notice of intent to prepare an environmental impact statement.

SUMMARY: The Fremont-Winema National Forest is preparing an environmental impact statement (EIS) to document the analysis of grazing management within all or portions of three allotments on the Fremont-Winema National Forests. This project, initially documented with an environmental assessment, has had one scoping period (11/2010) and two comment periods (11/2012 and 04/2014). The allotments are the Antelope Cattle & Horse Allotment on the Chemult Ranger District (RD), the Antelope Grazing Allotment on the Silver Lake RD, and a portion of the Jack Creek Sheep and Goat Allotment also on the Chemult RD. The proposed action would reauthorize term grazing permit and a term private land permit to graze cattle for an appropriate season of use (May 15-September 30) within the approximately 169,599 acre project area using an adaptive management strategy, modification of allotment boundaries, and a change in the number of total allotments and pastures. Associated activities would include fence construction, reconstruction, and removal; and spring protection/development and water infrastructure improvements.

DATES: The draft environmental impact statement is expected November 2014 and the final environmental impact statement is expected February 2015.

ADDRESSES: Documents related to this project can be viewed at the Fremont-Winema National Forests Supervisor Office, 1301 South G Street, Lakeview, Oregon 97640.

FOR FURTHER INFORMATION CONTACT: Lucas Phillips, Forest Range Program Lead, at 1301 South G Street, Lakeview, Oregon 97630; or phone at 541-947-6251.

Individuals who use telecommunication devices for the deaf (TDD) may call the Federal Information Relay Service (FIRS) at 1-800-877-8339 between 8 a.m. and 8 p.m., Eastern Time, Monday through Friday.

SUPPLEMENTARY INFORMATION:

Project Analysis Background

The Antelope Grazing Allotment Project was first presented to the public in 2010. Analysis of the project area began that year and an environmental assessment was released in 2012. A decision notice, signed February 11, 2013, was withdrawn for administrative reasons. Another environmental assessment was completed and publicized December 21, 2013. After review of comments and objections received, the Forest Supervisor decided the analysis would be better documented in an environmental impact statement than using an environmental assessment.

Purpose and Need for Action

This project is being analyzed to determine whether or not the Forest Service should reauthorize livestock grazing, and if so, the appropriate level to reauthorize within the Antelope Grazing Allotments project area. There are needs to update Allotment Management Plans to incorporate best available science that applies to the landscape within these allotments; refine allotment management strategies, systems, and boundaries to better distribute livestock and forage utilization across the allotment, consistent with Forest Plan standards; ensure compliance with the Rescission Act of 1995 (Pub. L. 104-19, Section 504) that requires the Forest Service to establish and adhere to a schedule for completion of NEPA analyses and decisions on all grazing allotments; meet Congressional intent to allow grazing on suitable lands as identified in the Forest Plans and where consistent with other multiple use goals and objectives; and, contribute to the economic and social well-being of the area by providing opportunities for economic diversity and promoting stability for communities dependent on range resources.

Proposed Action

The Proposed Action was developed to provide grazing opportunities that meet multiple use objectives while reducing the impacts to important botanical and wildlife resource. One herd, a total of 494 cow/calf pairs per month, which includes the 75 cow/calf pair being grazed on private lands, would be authorized to graze from May 20 to October 15. Grazing would be allowed in some fenced riparian areas, additional acreage identified in the Jack Creek Sheep and Goat Allotment, and grazing of the private parcels along Jack Creek known as Upper Jamison, and Lower Jamison under a term private land grazing permit. This would facilitate coordinated management of Oregon spotted frog habitat across ownerships. The North Sheep Pasture would be added to the Antelope Grazing Allotment. The grazing system in the Chemult pasture would be a deferred rotation system made possible by allowing use of additional acreage in some of the existing fenced riparian areas and the North Sheep Pasture.

Possible Alternatives

In addition to the proposed action, the project interdisciplinary team will analyze the effects of:

No Action Alternative (Alternative 1): No livestock grazing would be authorized within the existing Allotments nor would coordinated management of grazing on private lands within the Antelope Allotments occur. Continuance or establishment of grazing on all private lands within the Antelope Allotments, including lands within Oregon spotted frog habitat, would be at stockings, rate, timings, and utilizations of the private landowners' choosing. Cattle would be removed from all allotments within two years.

Current Management Alternative (Alternative 2): Permits would be reauthorized as have been over the last three to five years; two herds at 419 cow/calf pair per month with permitted grazing from May 15 to September 30. The Antelope and Antelope Cattle & Horse Allotments would remain two separate administrative allotments and retain their existing boundaries. Approximately 3.6 miles of fence would be constructed to reinforce the Chemult Pasture boundary at the northeast corner.

Alternative 4: This alternative was developed to provide grazing opportunities while addressing concerns relating to the protection of important botanical and wildlife resources in the Chemult RD. The Chemult portion of the allotments would be administratively closed to grazing, grazing would not expand into the North Sheep Pasture, and fencing would be constructed along active allotment boundaries. New exclosure/protection fences would be constructed around sensitive springs and fens on the Silver Lake side of the allotments. Grazing would be permitted for one herd at 419 cow/calf pair per month from May 20 to July 30 without using the Chemult RD portion of the allotments.

Alternative 5: This incorporates concepts that may result in better success in allotment management and livestock needs. A two herd grazing system on the Chemult District would be used with a deferred rotation pattern involving three of the pastures. Two of these pastures would have a one-year rest during the three-year cycle. The North Sheep Pasture would be added to the Antelope Grazing Allotment. The two-herd system would incorporate the 75 cow/calf pair currently grazed on the private lands withing Jack Creek as part of a term/private permit. Private inholdings along Jack Creek would be brought under allotment management throught a term private permit to enable coordinated management of Oregon spotted frog habitat across ownerships. New exclosure/protection fences would be constructed around sensitive springs and fens. The Rock Springs area would not be included in the Tobin Cabin Allotment. The season of use in the Antelope 3 and 4 holding pastures would be extended to October 15 to facilitate movement of livestock off the Allotments at the end of the grazing season.

Responsible Official

The responsible official will be Forest Supervisor, Fremont-Winema National Forests, 1301 South G Street, Lakeview, OR 97630

Nature of Decision To Be Made

Given the purpose of and need for the proposal, the deciding official will review the proposed action, the other alternatives, and the environmental consequences to make the following decisions:

• Whether or not to authorize livestock grazing on the identified allotments and if so, the appropriate level and grazing system to use.

• If an action alternative is selected, that it is consistent with the Fremont and Winema Land and Resource Management Plans, as amended.

Preliminary Issues

Preliminary issues identified include:

• Grazing within meadows and riparian areas, including fens

• Grazing within occupied and potential habitat for Oregon spotted frog

• Proposed grazing strategies including animal unit months, rotations, and number of herds

• Overutilization, underutilization, and uneven distribution of utilization of forage that may be addressed by inclusion of acquired lands, fenced meadows, and adjacent unused grazing lands as part of the grazing strategy

• Proposed fencing strategies including construction, reconstruction, and fences to maintain or remove

• Expansion of the allotment boundaries, specifically at Cannon Well and the addition of the North Sheep Pasture.

Dated: October 28, 2014.
Constance Cummins,
Forest Supervisor.

[FR Doc. 2014-26394 Filed 11-5-14; 8:45 am]

BILLING CODE 3410-11-P